ENVIRONMENTAL PROTECTION AGENCY

[Docket Nos. EPA-HQ-OAR-2020-0505 et al.; FRL-12133-01-OAR]

Proposed Information Collection Request; Comment Request

AGENCY: Environmental Protection Agency (EPA).

ACTION: Notice.

SUMMARY: The Environmental Protection Agency is planning to submit the below listed information collection requests (ICR) to the Office of Management and Budget (OMB) for review and approval in accordance with the Paperwork Reduction Act. Before doing so, the EPA is soliciting public comments on specific aspects of the proposed information collection as described below. These are proposed extensions of the currently approved ICRs. An Agency may not conduct, or sponsor and a person is not required to respond to a collection of information unless it displays a currently valid OMB control number.

DATES: Comments must be submitted on or before October 7, 2024.

ADDRESSES: Submit your comments, referencing the Docket ID numbers provided for each item in the text, online using www.regulations.gov (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: Muntasir Ali, Sector Policies and Program Division (D243-05), Office of Air Quality Planning and Standards, U.S. Environmental Protection Agency, P.O. Box 12055, Research Triangle Park, North Carolina 27711; telephone number: (919) 541-0833; email address: Ali.Muntasir@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about the EPA's public docket, visit https://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). The EPA will consider the comments received and amend the ICR as appropriate. The final ICR package will then be submitted to OMB for review and approval. At that time, the EPA will issue another Federal Register notice to announce the submission of the ICR to OMB and the opportunity to submit additional comments to OMB.

General Abstract: For all the listed ICRs in this notice, affected facilities are required to comply with reporting and record keeping requirements for the general provisions of 40 CFR part 59, subpart A; 40 CFR part 60, subpart A; 40 CFR part 61, subpart A; or part 63, subpart A, as well as the applicable specific standards. This includes submitting initial notifications, performance tests and periodic reports and results, and maintaining records of maintain records of the occurrence and duration of any startup, shutdown, or malfunction in the operation of an affected facility, or any period during which the monitoring system is inoperative. These reports are used by the EPA to determine compliance with the standards.

(1) Docket ID Number: EPA-HQ-OAR-2020-0505; NESHAP for Carbon Black Production (40 CFR part 63, subpart YY) (Renewal); EPA ICR Number 2677.03; OMB Control Number 2060-0738; Expiration date December 31, 2024.

Respondents: Carbon black production facilities.

Respondent's obligation to respond: Mandatory (40 CFR part 63, subpart YY).

Estimated number of Respondents: 15.

Frequency of response: Periodically, semiannually.

Estimated Annual burden: 289 hours.

Estimated Annual cost: $180,928, includes $152,473 annualized capital or O&M costs.

Changes in Estimates: There is a projected decrease in burden due to one-time costs that are expected to already have been incurred.

(2) Docket ID Number: EPA-HQ-OAR-2024-0266; NESHAP for Boat Manufacturing (40 CFR part 63, subpart VVVV) (Renewal); EPA ICR Number 1966.10; OMB Control Number 2060-0546; Expiration date February 28, 2025.

Respondents: Boat manufacturers.

Respondent's obligation to respond: Mandatory (40 CFR part 63, subpart VVVV).

Estimated number of Respondents: 93.

Frequency of response: Initially and semiannually.

Estimated Annual burden: 7,829 hours.

Estimated Annual cost: $808,000, includes $0 annualized capital or O&M costs.

Changes in Estimates: There is a projected decrease in burden due to one-time costs that are expected to already have been incurred.

(3) Docket ID Number: EPA-HQ-OAR-2024-0267; NESHAP for Stationary Reciprocating Internal Combustion Engines (40 CFR part 63, subpart ZZZZ) (Renewal); EPA ICR Number 1975.12; OMB Control Number 2060-0548; Expiration date February 28, 2025.

Respondents: Stationary reciprocating internal combustion engines (RICE).

Respondent's obligation to respond: Mandatory (40 CFR part 63, subpart ZZZZ).

Estimated number of Respondents: 910,177.

Frequency of response: Initially, quarterly, semiannually, and annually.

Estimated Annual burden: 3,620,000 hours.

Estimated Annual cost: $461,000,000, includes $41,700,000 annualized capital or O&M costs.

Changes in Estimates: There is a projected increase in burden due to an increase in the number of sources subject to the regulation.

(4) Docket ID Number: EPA-HQ-OAR-2021-0119; NESHAP for Taconite Iron Ore Processing (40 CFR part 63 subpart RRRRR) (Renewal); EPA ICR Number 2050.10; OMB Control Number 2060-0538; Expiration date February 28, 2025.

Respondents: Taconite iron ore processing facilities.

Respondent's obligation to respond: Mandatory (40 CFR part 63, subpart RRRRR).

Estimated number of Respondents: 8.

Frequency of response: Initially and semiannually.

Estimated Annual burden: 1,000 hours.

Estimated Annual cost: $550,000, includes $0 annualized capital or O&M costs.

Changes in Estimates: There is no projected change in burden from the previous ICR.

(5) Docket ID Number: EPA-HQ-OAR-2024-0269; NESHAP for Lime Manufacturing (40 CFR part 63, subpart AAAAA) (Renewal); EPA ICR Number 2072.10; OMB Control Number 2060-0544; Expiration date February 28, 2025.

Respondents: Lime manufacturing plants.

Respondent's obligation to respond: Mandatory (40 CFR part 63, subpart AAAAA).

Estimated number of Respondents: 37.

Frequency of response: Initially, occasionally, and semiannually.

Estimated Annual burden: 9,690 hours.

Estimated Annual cost: $1,810,000, includes $684,000 annualized capital or O&M costs.

Changes in Estimates: There is a projected increase in burden due to an increase in the number of sources subject to the regulation.

(6) Docket ID Number: EPA-HQ-OAR-2024-0270; NESHAP for Metal Can Manufacturing Surface Coating (40 CFR part 63, subpart KKKK) (Renewal); EPA ICR Number 2079.10; OMB Control Number 2060-0541; Expiration date February 28, 2025.

Respondents: Metal can manufacturing facilities that use 5,700 liters (1,500 gallons) per year or more of surface coatings.

Respondent's obligation to respond: Mandatory (40 CFR part 63, subpart KKKK).

Estimated number of Respondents: 5.

Frequency of response: Initially, occasionally, and semiannually.

Estimated Annual burden: 54 hours.

Estimated Annual cost: $21,800, includes $15,600 annualized capital or O&M costs.

Changes in Estimates: There is no projected change in burden from the previous ICR.

(7) Docket ID Number: EPA-HQ-OAR-2024-0271; NESHAP for Acrylic/Modacrylic Fibers Prod., Carbon Black Prod., Chemical Mfg: Chromium Compounds; Flexible Polyurethane Foam Production/Fabrication, Lead Acid Battery Mfg, Wood Preserving (Renewal); EPA ICR Number 2256.07; OMB Control Number 2060-0598; Expiration date February 28, 2025.

Respondents: HAP area sources as follows: (1) Acrylic or modacrylic fibers production plants; (2) carbon black production plant; (3) facilities that use chromite ore as the basic feedstock to manufacture chromium compounds; (4) facilities that manufacture or fabricate flexible polyurethane foam; (5) lead acid battery manufacturing facilities; (6) facilities that use either pressure or thermal processes to impregnate chemicals into wood to a depth that will provide effective long-term resistance to attack by fungi, bacteria, insects, and marine borers.

Respondent's obligation to respond: Mandatory (40 CFR part 63, subparts LLLLLL, MMMMMM, NNNNNN, OOOOOO, PPPPPP, and QQQQQQ).

Estimated number of Respondents: 939.

Frequency of response: Initially, semiannually.

Estimated Annual burden: 5,730 hours.

Estimated Annual cost: $671,000, includes $0 annualized capital or O&M costs.

Changes in Estimates: There is no projected change in burden from the previous ICR.

(8) Docket ID Number: EPA-HQ-OAR-2024-0272; NESHAP for Electric Arc Furnace Steelmaking Facilities (40 CFR part 63, subpart YYYYY) (Renewal); EPA ICR Number 2277.07; OMB Control Number 2060-0608; Expiration date February 28, 2025.

Respondents: Electric arc furnace (EAF) steelmaking facilities that are HAP area sources.

Respondent's obligation to respond: Mandatory (40 CFR part 63, subpart YYYYY).

Estimated number of Respondents: 78.

Frequency of response: Initially, semiannually.

Estimated Annual burden: 4,000 hours.

Estimated Annual cost: $485,000, includes $15,500 annualized capital or O&M costs.

Changes in Estimates: There is a projected increase in burden due to an increase in the number of sources subject to the regulation.

(9) Docket ID Number: EPA-HQ-OAR-2006-0971; National Volatile Organic Compound (VOC) Emission Standards for Aerosol Coatings (40 CFR part 59, subpart E) (Renewal); EPA ICR Number 2289.06; OMB Control Number 2060-0617; Expiration date February 28, 2025.

Respondents: Manufacturers, importers, and distributors of aerosol coating products.

Respondent's obligation to respond: Mandatory (40 CFR part 59, subpart E).

Estimated number of Respondents: 65.

Frequency of response: Initially, occasionally, annually, and triennially.

Estimated Annual burden: 13,598 hours.

Estimated Annual cost: $972,539, includes $0 annualized capital or O&M costs.

Changes in Estimates: There is a projected increase in burden due to an increase in the number of sources subject to the regulation.

(10) Docket ID Number: EPA-HQ-OAR-2024-0273; NESHAP for Ferroalloys Production Area Sources (40 CFR part 63, subpart YYYYYY) (Renewal); EPA ICR Number 2303.07; OMB Control Number 2060-0625; Expiration date February 28, 2025.

Respondents: Ferroalloy production area source facilities.

Respondent's obligation to respond: Mandatory (40 CFR part 63, subpart YYYYYY).

Estimated number of Respondents: 9.

Frequency of response: Initially, annually.

Estimated Annual burden: 362 hours.

Estimated Annual cost: $42,500, includes $0 annualized capital or O&M costs.

Changes in Estimates: There is no projected change in burden from the previous ICR.

(11) Docket ID Number: EPA-HQ-OAR-2024-0274; NESHAP for Group IV Polymers and Resins (40 CFR part 63, subpart JJJ) (Renewal); EPA ICR Number 2457.05; OMB Control Number 2060-0682; Expiration date February 28, 2025.

Respondents: Thermoplastic resin production facilities.

Respondent's obligation to respond: Mandatory (40 CFR part 63, subpart JJJ).

Estimated number of Respondents: 27.

Frequency of response: Initially, occasionally, quarterly, and semiannually.

Estimated Annual burden: 141,000 hours.

Estimated Annual cost: $23,700,000, includes $7,430,000 annualized capital or O&M costs.

Changes in Estimates: There is no projected change in burden from the previous ICR.

(12) Docket ID Number: EPA-HQ-OAR-2024-0276; National Emission Standards for Hazardous Air Pollutants (NESHAP) from Manufacturing of Nutritional Yeast (40 CFR Part60, CCCC) (Renewal); EPA ICR Number 2568.04; OMB Control Number 2060-0719; Expiration date February 28, 2025.

Respondents: Nutritional yeast manufacturing facilities.

Respondent's obligation to respond: Mandatory (40 CFR part 60, subpart CCCC).

Estimated number of Respondents: 4.

Frequency of response: Initially, semiannually.

Estimated Annual burden: 1,410 hours.

Estimated Annual cost: $941,000, includes $776,000 annualized capital or O&M costs.

Changes in Estimates: There is no projected change in burden from the previous ICR.

(13) Docket ID Number: EPA-HQ-OAR-2024-0275; NSPS Review for Municipal Solid Waste Landfills (40 CFR part 60, subpart XXX) (Renewal); EPA ICR Number 2498.05; OMB Control Number 2060-0697; Expiration date March 31, 2025.

Respondents: Municipal solid waste landfills operated by the public and private landfill owners.

Respondent's obligation to respond: Mandatory (40 CFR part 60, subpart XXX).

Estimated number of Respondents: 190.

Frequency of response: Initially, annually.

Estimated Annual burden: 176,000 hours.

Estimated Annual cost: $12,500,000, includes $858,000 annualized capital or O&M costs.

Changes in Estimates: There is a projected increase in burden due to an increase in the number of sources subject to the regulation.

(14) Docket ID Number: EPA-HQ-OAR-2024-0265; NESHAP for Solvent Extraction for Vegetable Oil Production (40 CFR part 63, subpart GGGG) (Renewal); EPA ICR Number 1947.10; OMB Control Number 2060-0471; Expiration date April 30, 2025.

Respondents: Vegetable oil production facilities.

Respondent's obligation to respond: Mandatory (40 CFR Part63, subpart GGGG).

Estimated number of Respondents: 90.

Frequency of response: Initially, annually.

Estimated Annual burden: 34,100 hours.

Estimated Annual cost: $3,490,000, includes $0 annualized capital or O&M costs.

Changes in Estimates: There is a projected increase in burden due to an increase in the number of sources subject to the regulation.

(15) Docket ID Number: EPA-HQ-OAR-2020-0643; NSPS for Municipal Waste Combustors (40 CFR part 60, subparts Ea and Eb) (Renewal); EPA ICR Number 1506.15; OMB Control Number 2060-0210; Expiration date May 31, 2025.

Respondents: Municipal waste combustor facilities.

Respondent's obligation to respond: Mandatory (40 CFR part 60, subparts Ea and Eb).

Estimated number of Respondents: 22.

Frequency of response: Initially, quarterly, semiannually, and annually.

Estimated Annual burden: 32,600 hours.

Estimated Annual cost: $3,320,000, includes $197,000 annualized capital or O&M costs.

Changes in Estimates: There is no projected change in burden from the previous ICR.

(16) Docket ID Number: EPA-HQ-OAR-2021-0091; NESHAP for Pesticide Active Ingredient Production (40 CFR part 63, subpart MMM) (Renewal); EPA ICR Number 1807.11; OMB Control Number 2060-0370; Expiration date May 31, 2025.

Respondents: Pesticide active ingredient production facilities.

Respondent's obligation to respond: Mandatory (40 CFR part 63, subpart MMM).

Estimated number of Respondents: 19.

Frequency of response: Periodically, quarterly, and semiannually.

Estimated Annual burden: 13,200 hours.

Estimated Annual cost: $1,910,000, includes $339,000 annualized capital or O&M costs.

Changes in Estimates: There is no projected change in burden from the previous ICR.

(17) Docket ID Number: EPA-HQ-OAR-2021-0116; NESHAP for Plating and Polishing Area Sources (40 CFR part 63, subpart WWWWWW) (Renewal); EPA ICR Number 2294.07; OMB Control Number 2060-0623; Expiration date May 31, 2025.

Respondents: Plating and polishing facilities.

Respondent's obligation to respond: Mandatory (40 CFR part 63, subpart WWWWWW).

Estimated number of Respondents: 2,900.

Frequency of response: Annually.

Estimated Annual burden: 67,700 hours.

Estimated Annual cost: $8,000,000, includes $0 annualized capital or O&M costs.

Changes in Estimates: There is no projected change in burden from the previous ICR.

(18) Docket ID Number: EPA-HQ-OAR-2020-0654; NSPS for Beverage Can Surface Coating (40 CFR part 60, subpart WW) (Renewal); EPA ICR Number 0663.15; OMB Control Number 2060-0001; Expiration date June 30, 2025.

Respondents: Beverage can surface coating facilities.

Respondent's obligation to respond: Mandatory (40 CFR part 60, subpart WW).

Estimated number of Respondents: 46.

Frequency of response: Semiannually.

Estimated Annual burden: 4,970 hours.

Estimated Annual cost: $686,000, includes $97,000 annualized capital or O&M costs.

Changes in Estimates: There is no projected change in burden from the previous ICR.

(19) Docket ID Number: EPA-HQ-OAR-2020-0658; NSPS for the Phosphate Fertilizer Industry (40 CFR part 60, subparts T, U, V, W, and X) (Renewal); EPA ICR Number 1061.16; OMB Control Number 2060-0037; Expiration date June 30, 2025.

Respondents: Phosphate fertilizer manufacturing facilities.

Respondent's obligation to respond: Mandatory (40 CFR part 60, subparts T, U, V, W, and X).

Estimated number of Respondents: 13.

Frequency of response: Initially, semiannually.

Estimated Annual burden: 1,390 hours.

Estimated Annual cost: $484,000, includes $320,000 annualized capital or O&M costs.

Changes in Estimates: There is no projected change in burden from the previous ICR.

(20) Docket ID Number: EPA-HQ-OAR-2020-0661; NSPS for Surface Coating of Plastic Parts for Business Machines (40 CFR part 60, subpart TTT) (Renewal); EPA ICR Number 1093.15; OMB Control Number 2060-0162; Expiration date June 30, 2025.

Respondents: Facilities conducting surface coating of plastic parts for business machines.

Respondent's obligation to respond: Mandatory (40 CFR Part60, Subpart TTT).

Estimated number of Respondents: 3.

Frequency of response: Initially, quarterly, and semiannually.

Estimated Annual burden: 2 hours.

Estimated Annual cost: $276, includes $0 annualized capital or O&M costs.

Changes in Estimates: There is a projected increase in burden to reflect the full burden of the rule rather than the incremental burden associated with the most recent rulemaking as shown in the previous ICR.

(21) Docket ID Number: EPA-HQ-OAR-2020-0663; NSPS for Synthetic Fiber Production Facilities (40 CFR part 60, subpart HHH) (Renewal); EPA ICR Number 1156.16; OMB Control Number 2060-0059; Expiration date June 30, 2025.

Respondents: Synthetic fiber production facilities.

Respondent's obligation to respond: Mandatory (40 CFR part 60, subpart HHH).

Estimated number of Respondents: 22.

Frequency of response: Initially, quarterly, and semiannually.

Estimated Annual burden: 1,880 hours.

Estimated Annual cost: $388,000, includes $165,000 annualized capital or O&M costs.

Changes in Estimates: There is no projected change in burden from the previous ICR.

(22) Docket ID Number: EPA-HQ-OAR-2021-0089; NESHAP for Chromium Emissions from Hard and Decorative Chromium Electroplating and Chromium Anodizing Tanks (40 CFR part 63, subpart N) (Renewal); EPA ICR Number 1611.14; OMB Control Number 2060-0327; Expiration date June 30, 2025.

Respondents: Hard and decorative chromium electroplating and chromium anodizing tanks.

Respondent's obligation to respond: Mandatory (40 CFR part 63, subpart N).

Estimated number of Respondents: 1,343.

Frequency of response: Quarterly, semiannually, and annually.

Estimated Annual burden: 242,000 hours.

Estimated Annual cost: $49,000,000, includes $20,400,000 annualized capital or O&M costs.

Changes in Estimates: There is no projected change in burden from the previous ICR.

(23) Docket ID Number: EPA-HQ-OAR-2021-0090; NESHAP for Flexible Polyurethane Foam Product (40 CFR part 63, subpart III) (Renewal); EPA ICR Number 1783.12; OMB Control Number 2060-0357; Expiration date June 30, 2025.

Respondents: Flexible polyurethane foam production facilities.

Respondent's obligation to respond: Mandatory (40 CFR part 63, subpart III).

Estimated number of Respondents: 12.

Frequency of response: Semiannually, annually.

Estimated Annual burden: 869 hours.

Estimated Annual cost: $102,000, includes $0 annualized capital or O&M costs.

Changes in Estimates: There is no projected change in burden from the previous ICR.

(24) Docket ID Number: EPA-HQ-OAR-2021-0093; NESHAP for Ferroalloys Production: Ferromanganese and Silicomanganese (40 CFR part 63, subpart XXX) (Renewal); EPA ICR Number 1831.09; OMB Control Number 2060-0391; Expiration date June 30, 2025.

Respondents: Facilities that produce ferroalloys.

Respondent's obligation to respond: Mandatory (40 CFR part 63, subpart XXX).

Estimated number of Respondents: 2.

Frequency of response: Quarterly, semiannually, and annually.

Estimated Annual burden: 1,610 hours.

Estimated Annual cost: $609,000, includes $424,000 annualized capital or O&M costs.

Changes in Estimates: There is no projected change in burden from the previous ICR.

(25) Docket ID Number: EPA-HQ-OAR-2021-0104; NESHAP for Refractory Products Manufacturing (40 CFR part 63, subpart SSSSS) (Renewal); EPA ICR Number 2040.11; OMB Control Number 2060-0515; Expiration date June 30, 2025.

Respondents: Refractory products manufacturing facilities.

Respondent's obligation to respond: Mandatory (40 CFR part 63, subpart SSSSS).

Estimated number of Respondents: 3.

Frequency of response: Initially and semiannually.

Estimated Annual burden: 230 hours.

Estimated Annual cost: $97,000, includes $69,900 annualized capital or O&M costs.

Changes in Estimates: There is no projected change in burden from the previous ICR.

(26) Docket ID Number: EPA-HQ-OAR-2020-0710; Emission Guidelines for Existing Other Solid Waste Incineration (OSWI) Units (40 CFR part 60, subpart FFFF) (Renewal); EPA ICR Number 2164.09; OMB Control Number 2060-0562; Expiration date June 30, 2025.

Respondents: Very small municipal waste combustion and institutional waste incineration facilities.

Respondent's obligation to respond: Mandatory (40 CFR part 60, subpart FFFF).

Estimated number of Respondents: 155.

Frequency of response: Initially, semiannually, and annually.

Estimated Annual burden: 91,600 hours.

Estimated Annual cost: $11,400,000, includes $630,000 annualized capital or O&M costs.

Changes in Estimates: There is no projected change in burden from the previous ICR.

(27) Docket ID Number: EPA-HQ-OAR-2021-0114; NESHAP for Gasoline Distribution Bulk Terminals, Bulk Plants, Pipeline Facilities and Gasoline Dispensing Facilities (40 CFR part 63, subparts BBBBBB and CCCCCC) (Renewal); EPA ICR Number 2237.07; OMB Control Number 2060-0620; Expiration date June 30, 2025.

Respondents: Gasoline distribution, bulk terminals, bulk plants, pipeline, and gasoline dispensing facilities.

Respondent's obligation to respond: Mandatory (40 CFR part 63, subparts BBBBBB and CCCCCC).

Estimated number of Respondents: 350,000.

Frequency of response: Semiannually.

Estimated Annual burden: 214,000 hours.

Estimated Annual cost: $25,400,000, includes $110,000 annualized capital or O&M costs.

Changes in Estimates: There is no projected change in burden from the previous ICR.

(28) Docket ID Number: EPA-HQ-OAR-2020-0668; Emission Guidelines for Commercial and Industrial Solid Waste Incineration (CISWI) Units (40 CFR part 60, subpart DDDD) (Renewal); EPA ICR Number 2385.09; OMB Control Number 2060-0664; Expiration date June 30, 2025.

Respondents: Commercial and industrial solid waste incineration facilities.

Respondent's obligation to respond: Mandatory (40 CFR part 60, subpart DDDD).

Estimated number of Respondents: 78.

Frequency of response: Semiannually, annually.

Estimated Annual burden: 9,890 hours.

Estimated Annual cost: $12,200,000, includes $11,000,000 annualized capital or O&M costs.

Changes in Estimates: There is no projected change in burden from the previous ICR.

(29) Docket ID Number: EPA-HQ-OAR-2020-0664; NSPS for Emission Guidelines and Compliance Times for Small Municipal Waste Combustion Units Constructed on or before August 30, 1999 (40 CFR part 60, subpart BBBB) (Renewal); EPA ICR Number 1901.09; OMB Control Number 2060-0424; Expiration date July 31, 2025.

Respondents: Small municipal waste combustion facilities.

Respondent's obligation to respond: Mandatory (40 CFR part 60, subpart BBBB).

Estimated number of Respondents: 22.

Frequency of response: Semiannually, annually.

Estimated Annual burden: 86,500 hours.

Estimated Annual cost: $6,550,000, includes $422,000 annualized capital or O&M costs.

Changes in Estimates: There is no projected change in burden from the previous ICR.

(30) Docket ID Number: EPA-HQ-OAR-2020-0666; NSPS for Stationary Compression Ignition Internal Combustion Engines (40 CFR part 60, subpart IIII) (Renewal); EPA ICR Number 2196.08; OMB Control Number 2060-0590; Expiration date July 31, 2025.

Respondents: Manufacturers and operators of stationary compression ignition internal combustion engines.

Respondent's obligation to respond: Mandatory (40 CFR part 60, subpart IIII).

Estimated number of Respondents: 207,240.

Frequency of response: Annually.

Estimated Annual burden: 408,000 hours.

Estimated Annual cost: $48,400,000, includes $242,000 annualized capital or O&M costs.

Changes in Estimates: There is a projected increase in burden due to an increase in the number of sources subject to the regulation.

(31) Docket ID Number: EPA-HQ-OAR-2022-0037; NSPS for Stationary Combustion Turbines (40 CFR part 60, subpart KKKK) (Renewal); EPA ICR Number 2177.09; OMB Control Number 2060-0582; Expiration date October 31, 2025.

Respondents: Stationary combustion turbine facilities.

Respondent's obligation to respond: Mandatory (40 CFR part 60, subpart KKKK).

Estimated number of Respondents: 871.

Frequency of response: Initially, semiannually.

Estimated Annual burden: 90,300 hours.

Estimated Annual cost: $10,800,000, includes $0 annualized capital or O&M costs.

Changes in Estimates: There is a projected increase in burden due to an increase in the number of sources subject to the regulation.

(32) Docket ID Number: EPA-HQ-OAR-2022-0059; NSPS for Ammonium Sulfate Manufacturing Plants (40 CFR part 60, subpart PP) (Renewal); EPA ICR Number 1066.11; OMB Control Number 2060-0032; Expiration date November 30, 2025.

Respondents: Ammonium sulfate manufacturing plants.

Respondent's obligation to respond: Mandatory (40 CFR part 60, subpart PP).

Estimated number of Respondents: 2.

Frequency of response: Semiannually.

Estimated Annual burden: 286 hours.

Estimated Annual cost: $34,300, includes $0 annualized capital or O&M costs.

Changes in Estimates: There is no projected change in burden from the previous ICR.

(33) Docket ID Number: EPA-HQ-OAR-2021-0092; NESHAP for Steel Pickling, HCI Process Facilities and Hydrochloric Acid Regeneration Plants (40 CFR part 63, subpart CCC) (Renewal); EPA ICR Number 1821.12; OMB Control Number 2060-0419; Expiration date November 30, 2025.

Respondents: Steel pickling, HCl process facilities and hydrochloric acid regeneration plants.

Respondent's obligation to respond: Mandatory (40 CFR part 63, subpart CCC).

Estimated number of Respondents: 100.

Frequency of response: Semiannually.

Estimated Annual burden: 35,000 hours.

Estimated Annual cost: $4,140,000, includes $10,600 annualized capital or O&M costs.

Changes in Estimates: There is no projected change in burden from the previous ICR.

(34) Docket ID Number: EPA-HQ-OAR-2021-0122; NESHAP for Nine Metal Fabrication and Area Finishing Sources (40 CFR part 63, subpart XXXXXX) (Renewal); EPA ICR Number 2298.07; OMB Control Number 2060-0622; Expiration date November 30, 2025.

Respondents: Metal fabrication and finishing facilities.

Respondent's obligation to respond: Mandatory (40 CFR part 63, subpart XXXXXX).

Estimated number of Respondents: 5,800.

Frequency of response: Annually.

Estimated Annual burden: 39,000 hours.

Estimated Annual cost: $4,620,000, includes $0 annualized capital or O&M costs.

Changes in Estimates: There is no projected change in burden from the previous ICR.

(35) Docket ID Number: EPA-HQ-OAR-2020-0670; NSPS for Oil and Natural Gas Production and Natural Gas Transmission and Distribution (40 CFR part 60, subpart OOOO) (Renewal); EPA ICR Number 2437.06; OMB Control Number 2060-0673; Expiration date November 30, 2025.

Respondents: Oil and natural gas production, natural gas processing, natural gas transmission, and natural gas distribution facilities.

Respondent's obligation to respond: Mandatory (40 CFR part 60, subpart OOOO).

Estimated number of Respondents: 532.

Frequency of response: Semiannually and annually.

Estimated Annual burden: 69,300 hours.

Estimated Annual cost: $9,430,000, includes $1,220,000 annualized capital or O&M costs.

Changes in Estimates: There is no projected change in burden from the previous ICR.

(36) Docket ID Number: EPA-HQ-OAR-2020-0657; NSPS for Kraft Pulp Mills (40 CFR part 60, subpart BB) (Renewal); EPA ICR Number 1055.14; OMB Control Number 2060-0021; Expiration date December 31, 2025.

Respondents: Kraft pulp mills.

Respondent's obligation to respond: Mandatory (40 CFR part 60, subpart BB).

Estimated number of Respondents: 97.

Frequency of response: Semiannually.

Estimated Annual burden: 13,900 hours.

Estimated Annual cost: $5,650,000, includes $4,010,000 annualized capital or O&M costs.

Changes in Estimates: There is no projected change in burden from the previous ICR.

(37) Docket ID Number: EPA-HQ-OAR-2022-0066; NSPS for Grain Elevators (40 CFR part 60, subpart DD) (Renewal); EPA ICR Number 1130.14; OMB Control Number 2060-0082; Expiration date December 31, 2025.

Respondents: Grain elevators operating truck or railcar loading and unloading stations, grain dryers, or grain handling facilities.

Respondent's obligation to respond: Mandatory (40 CFR part 60, subpart DD).

Estimated number of Respondents: 200.

Frequency of response: Initially and annually.

Estimated Annual burden: 460 hours.

Estimated Annual cost: $55,000, includes $0 annualized capital or O&M costs.

Changes in Estimates: There is no projected change in burden from the previous ICR.

(38) Docket ID Number: EPA-HQ-OAR-2022-0070; NSPS for Flexible Vinyl and Urethane Coating and Printing (40 CFR part 60, subpart FFF) (Renewal); EPA ICR Number 1157.14; OMB Control Number 2060-0073; Expiration date December 31, 2025.

Respondents: Flexible vinyl and urethane coating and printing facilities.

Respondent's obligation to respond: Mandatory (40 CFR part 60, subpart FFF).

Estimated number of Respondents: 42.

Frequency of response: Initially, semiannually.

Estimated Annual burden: 1,340 hours.

Estimated Annual cost: $545,000, includes $385,000 annualized capital or O&M costs.

Changes in Estimates: There is a projected increase in burden due to an increase in the number of sources subject to the regulation.

(39) Docket ID Number: EPA-HQ-OAR-2022-0021; NESHAP for Secondary Aluminum Production (40 CFR part 63, subpart RRR) (Renewal); EPA ICR Number 1894.12; OMB Control Number 2060-0433; Expiration date December 31, 2025.

Respondents: Secondary aluminum production facilities.

Respondent's obligation to respond: Mandatory (40 CFR part 63, subpart RRR).

Estimated number of Respondents: 161.

Frequency of response: Initially, annually, and semiannually.

Estimated Annual burden: 12,400 hours.

Estimated Annual cost: $5,590,000, includes $4,110,000 annualized capital or O&M costs.

Changes in Estimates: There is no projected change in burden from the previous ICR.

(40) Docket ID Number: EPA-HQ-OAR-2021-0084; NESHAP for Mercury (40 CFR part 61, subpart E) (Renewal); EPA ICR Number 0113.15; OMB Control Number 2060-0097; Expiration date January 31, 2026.

Respondents: Mercury ore processing facilities, mercury cell chlor-alkali plants, sludge incineration plants, and sludge drying plants.

Respondent's obligation to respond: Mandatory (40 CFR part 61, subpart E).

Estimated number of Respondents: 101.

Frequency of response: Initially, semiannually, and annually.

Estimated Annual burden: 17,200 hours.

Estimated Annual cost: $2,030,000, includes $0 annualized capital or O&M costs.

Changes in Estimates: There is no projected change in burden from the previous ICR.

(41) Docket ID Number: EPA-HQ-OAR-2021-0094; NESHAP for Source Categories: Generic Maximum Achievable Control Technology Standards (40 CFR part 63, subpart YY) (Renewal); EPA ICR Number 1871.12; OMB Control Number 2060-0420; Expiration date February 28, 2026.

Respondents: Polycarbonate, acrylic and modacrylic fiber, acetal resin, and hydrogen fluoride production facilities.

Respondent's obligation to respond: Mandatory (40 CFR part 63, subpart YY).

Estimated number of Respondents: 7.

Frequency of response: Initially and semiannually.

Estimated Annual burden: 2,910 hours.

Estimated Annual cost: $388,000, includes $43,900 annualized capital or O&M costs.

Changes in Estimates: There is no projected change in burden from the previous ICR.

(42) Docket ID Number: EPA-HQ-OAR-2021-0110; NESHAP for Coke Oven Pushing, Quenching, and Battery Stacks (40 CFR part 63, subpart CCCCC) (Renewal); EPA ICR Number 1995.09; OMB Control Number 2060-0521; Expiration date February 28, 2026.

Respondents: Coke oven batteries.

Respondent's obligation to respond: Mandatory (40 CFR part 63, subpart CCCCC).

Estimated number of Respondents: 14.

Frequency of response: Initially, quarterly, and semiannually.

Estimated Annual burden: 23,900 hours.

Estimated Annual cost: $2,950,000, includes $125,000 annualized capital or O&M costs.

Changes in Estimates: There is no projected change in burden from the previous ICR.

(43) Docket ID Number: EPA-HQ-OAR-2020-0665; NSPS for Other Solid Waste Incineration (OSWI) Units (40 CFR part 60, subpart EEEE) (Renewal); EPA ICR Number 2163.09; OMB Control Number 2060-0563; Expiration date March 31, 2026.

Respondents: Very small municipal waste combustion and institutional waste incineration facilities.

Respondent's obligation to respond: Mandatory (40 CFR part 60, subpart EEEE).

Estimated number of Respondents: 2.

Frequency of response: Initially, semiannually, and annually.

Estimated Annual burden: 1,210 hours.

Estimated Annual cost: $153,000, includes $10,000 annualized capital or O&M costs.

Changes in Estimates: There is no projected change in burden from the previous ICR.

(44) Docket ID Number: EPA-HQ-OAR-2021-0125; NESHAP for Polyvinyl Chloride and Copolymer Production (40 CFR part 63, subpart HHHHHHH) (Renewal); EPA ICR Number 2432.07; OMB Control Number 2060-0666; Expiration date May 31, 2026.

Respondents: Polyvinyl chloride and copolymer production facilities.

Respondent's obligation to respond: Mandatory (40 CFR part 63, subpart HHHHHHH).

Estimated number of Respondents: 13.

Frequency of response: Initially and semiannually.

Estimated Annual burden: 318,000 hours.

Estimated Annual cost: $44,700,000, includes $7,140,000 annualized capital or O&M costs.

Changes in Estimates: There is no projected change in burden from the previous ICR.

(45) Docket ID Number: EPA-HQ-OAR-2003-0085; NESHAP for Radionuclides (40 CFR part 61, subparts B, K, R, and W) (Renewal); EPA ICR Number 1100.18; OMB Control Number 2060-0191; Expiration date June 30, 2026.

Respondents: Underground uranium mines, elemental phosphorous plants, phosphogypsum stacks, and uranium tailings impoundments.

Respondent's obligation to respond: Mandatory (40 CFR part 61, subpart B, K, R, and W).

Estimated number of Respondents: 25.

Frequency of response: Annually.

Estimated Annual burden: 4,146 hours.

Estimated Annual cost: $293,792, includes $339,000 annualized capital or O&M costs.

Changes in Estimates: There is no projected change in burden from the previous ICR.

(46) Docket ID Number: EPA-HQ-OAR-2020-0662; NSPS for Secondary Lead Smelters (40 CFR part 60, subpart L) (Renewal); EPA ICR Number 1128.14; OMB Control Number 2060-0080; Expiration date July 31, 2026.

Respondents: Secondary lead smelting facilities.

Respondent's obligation to respond: Mandatory (40 CFR part 60, subpart L).

Estimated number of Respondents: 10.

Frequency of response: Initially and annually.

Estimated Annual burden: 26 hours.

Estimated Annual cost: $3,130, includes $0 annualized capital or O&M costs.

Changes in Estimates: There is no projected change in burden from the previous ICR.

(47) Docket ID Number: EPA-HQ-OAR-2022-0082; NSPS for Hospital/Medical/Infectious Waste Incinerators (40 CFR part 60, subpart Ec) (Renewal); EPA ICR Number 1730.13; OMB Control Number 2060-0363; Expiration date July 31, 2026.

Respondents: Hospital/medical/infectious waste incineration units.

Respondent's obligation to respond: Mandatory (40 CFR part 60, subpart Ec).

Estimated number of Respondents: 3.

Frequency of response: Initially, semiannually, and annually.

Estimated Annual burden: 1,780 hours.

Estimated Annual cost: $370,000, includes $157,000 annualized capital or O&M costs.

Changes in Estimates: There is no projected change in burden from the previous ICR.

(48) Docket ID Number: EPA-HQ-OAR-2022-0019; NESHAP for the Manufacture of Amino/Phenolic Resins (40 CFR part 63, subpart OOO) (Renewal); EPA ICR Number 1869.13; OMB Control Number 2060-0434; Expiration date July 31, 2026.

Respondents: Amino/phenolic resin manufacturing facilities.

Respondent's obligation to respond: Mandatory (40 CFR part 63, subpart OOO).

Estimated number of Respondents: 19.

Frequency of response: Initially, quarterly, semiannually, and annually.

Estimated Annual burden: 23,300 hours.

Estimated Annual cost: $5,080,000, includes $2,280,000 annualized capital or O&M costs.

Changes in Estimates: There is no projected change in burden from the previous ICR.

(49) Docket ID Number: EPA-HQ-OAR-2022-0047; NSPS for Greenhouse Gas Emissions for New Electric Utility Generating Units (40 CFR part 60, subpart TTTT) (Renewal); EPA ICR Number 2465.06; OMB Control Number 2060-0685; Expiration date July 31, 2026.

Respondents: Electric utility generating units.

Respondent's obligation to respond: Mandatory (40 CFR part 60, subpart TTTT).

Estimated number of Respondents: 92.

Frequency of response: Initially, quarterly.

Estimated Annual burden: 3,130 hours.

Estimated Annual cost: $376,000, includes $0 annualized capital or O&M costs.

Changes in Estimates: There is a projected increase in burden due to an increase in the number of sources subject to the regulation.

(50) Docket ID Number: EPA-HQ-OAR-2021-0098; NESHAP for the Surface Coating of Large Household and Commercial Appliances (40 CFR part 63, subpart NNNN) (Renewal); EPA ICR Number 1954.11; OMB Control Number 2060-0457; Expiration date September 30, 2026.

Respondents: Large household and commercial appliance surface coating facilities.

Respondent's obligation to respond: Mandatory (40 CFR part 63, subpart NNNN).

Estimated number of Respondents: 10.

Frequency of response: Initially, periodically, annually.

Estimated Annual burden: 4,380 hours.

Estimated Annual cost: $524,000, includes $6,350 annualized capital or O&M costs.

Changes in Estimates: There is no projected change in burden from the previous ICR.

(51) Docket ID Number: EPA-HQ-OAR-2021-0101; NESHAP for Integrated Iron and Steel Manufacturing (40 CFR part 63, subpart FFFFF) (Renewal); EPA ICR Number 2003.10; OMB Control Number 2060-0517; Expiration date September 30, 2026.

Respondents: Sinter plants, blast furnaces, and basic oxygen process furnace shops at integrated iron and steel manufacturing facilities.

Respondent's obligation to respond: Mandatory (40 CFR part 63, subpart FFFFF).

Estimated number of Respondents: 11.

Frequency of response: Initially and semiannually.

Estimated Annual burden: 6,500 hours.

Estimated Annual cost: $800,000, includes $50,300 annualized capital or O&M costs.

Changes in Estimates: There is no projected change in burden from the previous ICR.

(52) Docket ID Number: EPA-HQ-OAR-2021-0105; NESHAP for Semiconductor Manufacturing (40 CFR part 63, subpart BBBBB) (Renewal); EPA ICR Number 2042.09; OMB Control Number 2060-0519; Expiration date September 30, 2026.

Respondents: Semiconductor manufacturing facilities.

Respondent's obligation to respond: Mandatory (40 CFR part 63, subpart BBBBB).

Estimated number of Respondents: 1.

Frequency of response: Initially and semiannually.

Estimated Annual burden: 41 hours.

Estimated Annual cost: $5,450, includes $550 annualized capital or O&M costs.

Changes in Estimates: There is no projected change in burden from the previous ICR.

(53) Docket ID Number: EPA-HQ-OAR-2021-0120; NESHAP for Primary Magnesium Refining (40 CFR part 63, subpart TTTTT) (Renewal); EPA ICR Number 2098.11; OMB Control Number 2060-0536; Expiration date September 30, 2026.

Respondents: Primary magnesium refining facilities.

Respondent's obligation to respond: Mandatory (40 CFR part 63, subpart TTTTT).

Estimated number of Respondents: 1.

Frequency of response: Initially and semiannually.

Estimated Annual burden: 972 hours.

Estimated Annual cost: $116,000, includes $1,200 annualized capital or O&M costs.

Changes in Estimates: There is no projected change in burden from the previous ICR.

(54) Docket ID Number: EPA-HQ-OAR-2021-0124; NESHAP for Aluminum, Copper, and Other Non-Ferrous Foundries (40 CFR part 63, subpart ZZZZZZ) (Renewal); EPA ICR Number 2332.07; OMB Control Number 2060-0630; Expiration date September 30, 2026.

Respondents: Aluminum, copper, and other non-ferrous metals foundries.

Respondent's obligation to respond: Mandatory (40 CFR part 63, subpart ZZZZZZ).

Estimated number of Respondents: 318.

Frequency of response: Initially and semiannually.

Estimated Annual burden: 11,900 hours.

Estimated Annual cost: $1,410,000, includes $0 annualized capital or O&M costs.

Changes in Estimates: There is no projected change in burden from the previous ICR.

Penny Lassiter,
Director, Sector Policies and Programs Division.

[FR Doc. 2024-17273 Filed 8-5-24; 8:45 am]

BILLING CODE 6560-50-P